CORPORATION FOR NATIONAL AND COMMUNITY SERVICE

45 CFR Parts 2552 and 2553

Senior Corps

AGENCY: Corporation for National and Community Service.

ACTION: Final rule; correction.

SUMMARY: The Corporation for National and Community Service (hereinafter the “Corporation”) hereby amends its regulations for the Senior Corps. These amendments make technical corrections to the final rules issued on April 14, 2004, for the Foster Grandparent Program and on April 19, 2004, for the Retired and Senior Volunteer Program. Two amendments herein provide technical corrections to the Foster Grandparent Program and Retired and Senior Volunteer Program regulations to ensure consistency concerning the allowability of volunteer expenses among the Foster Grandparent, Retired and Senior Volunteer, and Senior Companion Programs and bring them in line with the corresponding provision for the Senior Companion Program, as it was amended on April 19, 2004. The third amendment deletes one sentence in the Retired and Senior Volunteer Program regulations so as to ensure consistency throughout the entire section.

DATES: These changes are effective as of September 22, 2004.

FOR FURTHER INFORMATION CONTACT: Mr. Peter Boynton at (202) 606-5000, ext. 499 or by e-mail: pboynton@cns.gov.

List of Subjects

45 CFR Part 2552

Aged, Grant programs—social programs, Volunteers.

45 CFR Part 2553

Aged, Grant programs—social programs, Volunteers.

For the reasons discussed in the Summary, the Corporation for National and Community Service amends 45 CFR parts 2552 and 2553 as follows:

PART 2552—FOSTER GRANDPARENT PROGRAM

1. The authority citation for part 2552 continues to read as follows:

Authority: 42 U.S.C. 4950 et seq.

2. In § 2552.45, revise paragraph (f) to read as follows:

§ 2552.45 What cost reimbursements are provided to Foster Grandparents?

* * * * *

(f) Other volunteer expenses. Foster Grandparents may be reimbursed for expenses incurred while performing their volunteer assignments, provided these expenses are described in the Memorandum of Understanding negotiated with the volunteer station to which the volunteer is assigned and there are sufficient funds available to cover these expenses and meet all other requirements identified in the notice of grant award.

PART 2553—RETIRED AND SENIOR VOLUNTEER PROGRAM

3. The authority citation for part 2553 continues to read as follows:

Authority: 42 U.S.C. 4950 et seq.

4. In § 2553.43, remove the last sentence of paragraph (a) and revise paragraph (e) to read as follows:

§ 2553.43 What cost reimbursements are provided to RSVP volunteers?

* * * * *

(e) Other volunteer expenses. RSVP volunteers may be reimbursed for expenses incurred while performing their volunteer assignments, provided these expenses are described in the Memorandum of Understanding negotiated with the volunteer station and there are sufficient funds available to cover these expenses and meet all other requirements identified in the notice of grant award.

Dated: September 14, 2004.
Tess Scannell,
Director, Senior Corps.

[FR Doc. 04-21235 Filed 9-21-04; 8:45 am]

BILLING CODE 6050-$$-P